FEDERAL COMMUNICATIONS COMMISSION

47 CFR Chapter I

[IB Docket No. 05-254; FCC 05-152]

Modifying the Commission's Process To Avert Harm to U.S. Competition and U.S. Customers Caused by Anticompetitive Conduct

AGENCY: Federal Communications Commission.

ACTION: Proposed rule.

SUMMARY: This document is a summary of the Notice of Inquiry that was adopted by the Commission. The Notice of Inquiry seeks comment on ways to address a developing concern in the U.S.-international telecommunications market: the use of circuit blockages or disruptions by foreign carriers as a way to compel U.S. carriers to agree to settlement rate increases. The record developed by this Notice on Inquiry would assist the Commission in determining whether to propose changes to current Commission policy and procedure in order to ensure that U.S. consumers benefit from competitive prices as they make international calls.

DATES: Submit comments on or before October 7, 2005, and submit reply comments on or before October 27, 2005.

FOR FURTHER INFORMATION CONTACT: Peggy Reitzel or Francis Gutierrez, Policy Division, International Bureau, (202) 418-1460.

SUPPLEMENTARY INFORMATION: This is a summary of the Commission's Notice of Inquiry in IB Docket No. 05-254, FCC 05-152, which was adopted on August 5, 2005. The full text of this Commission decision is available for inspection and copying during normal business hours in the FCC Reference Center (Room CY-A257), 445 12th Street, SW., Washington, DC 20554. The document may also be downloaded from the Commission's Web site at http://hraunfoss.fcc.gov/edocs_public/attachmatch/FCC-05-152A1.doc. The complete text may also be purchased from the Commission's copy contractor, Best Copy and Printing, Inc., in person at 445 12th Street, SW., Room CY-B402, Washington, DC 20554, via telephone at (202) 488-5300, via facsimile at (202) 488-5563, or via e-mail at FCC@BCPIWEB.COM.

Summary of the Notice of Inquiry

On August 5, 2005, the Commission adopted a Notice of Inquiry on Modifying the Commission's Process to Avert Harm to U.S. Competition and U.S. Customers Caused by Anticompetitive Conduct. By this Notice of Inquiry, the Commission seeks to develop a record on ways to improve the process available to the Commission to protect U.S. consumers from the effect of anticompetitive conduct by foreign carriers and on alternative approaches the Commission may take to avert circuit disruptions or blockages.

In particular, this Notice of Inquiry seeks comment on the following issues: (1) What constitutes a circuit disruption or blockage that would trigger possible Commission action; (2) what should be the appropriate length of the pleading cycle associated with any action the Commission may take in response to reports of anticompetitive behavior on the part of foreign carriers; (3) whether the Commission should propose procedures for taking interim measures when U.S. carriers notify the Commission that foreign carriers have threatened to disrupt circuits; (4) how should the Commission assess the immediacy of such threats, and how should it coordinate any action with the appropriate U.S. government agencies; (5) what showing is required of U.S. carriers to demonstrate that the public interest will be served by Commission intervention, and what is the appropriate form of relief; (6) whether U.S. carriers are passing through settlement rate reductions to U.S. consumers; and (7) whether it is appropriate for U.S. ratepayers to subsidize universal service in other countries.

The Commission encourages all interested parties to respond to the questions and requests set forth in the Notice of Inquiry.

Ordering Clauses

Pursuant to the authority contained in 47 U.S.C. 151, 4(i), 201-205, 208, 211, 303(r), 403 this Notice of Inquiry is adopted.

Federal Communications Commission.
Marlene H. Dortch,
Secretary.

[FR Doc. 05-17795 Filed 9-6-05; 8:45 am]

BILLING CODE 6712-01-P